DEPARTMENT OF LABOR

Office of the Secretary

Submission for OMB Review; Comment Request

May 22, 2001.

The Department of Labor (DOL) has submitted the following public information collection requests (ICRs) to the Office of Management and Budget (OMB) for review and approval in accordance with the Paperwork Reduction Act of 1995 (Pub. L. 104-13, 44 U.S.C. chapter 35). A copy of each individual ICR, with applicable supporting documentation, may be obtained by calling the Department of Labor. To obtain documentation for BLS, ESA, and PWBA contact Marlene Howze ((202) 219-8904 or by email to Howze-Marlene@dol.gov). Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: Employment Standards Administration (ESA).

Title: Employment Information Forms—WH-3 (English and Spanish Version).

OMB Number: 1215-0001.

Affected Public: Individuals or households; business or other for-profit; Not-for-profit institutions; Farms; Federal government; and State, Local or Tribal Government.

Frequency: On Occasion.

Number of Respondents: 39,000.

Number of Annual Responses: 39,000.

Estimated Time Per Response: 20 minutes.

Total Burden Hours: 13,000.

Total Annualized Capital/Startup Costs: $0.

Total Annual Costs (operating/maintaining systems or purchasing services): $0.

Description: Section 11(a) of the Fair Labor Standards Act (FLSA), 29 U.S.C. 201 et seq., provides that the Secretary of Labor (delegated to the Wage and House Division of the Employment Standards Administration) may investigate and gather data regarding the wages, hours or other conditions and practices of employment in any industry subject to the Act, and may enter and inspect such places and such records (and make such transcriptions thereof), question such employees, and investigate such facts, conditions, practices, or matters deemed necessary or appropriate to determine whether any person has violated any provision of the FLSA.

Similar provisions are also contained in the Public Contracts Act (section 4 of 41 U.S.C. 38 et seq.), the Service Contract Act (section 3(b) of 41 U.S.C. 351 et seq.), the Davis-Bacon Act pursuant to Reorganization Plan No. 14 of 1950, the Consumer Credit Protection Act (section 306 of 15 U.S.C. 1671 et seq.), the Migrant and Seasonal Agricultural Worker Protection Act (section 512 of 29 U.S.C. 1801 et seq.), the Employee Polygraph Protection Act (section 5 of 29 U.S.C. 2001 et seq.) and the Family and Medical Leave Act of 1993 (section 106 of 29 U.S.C. 2654), which are enforced by the Wage and Hour Division.

Type of Review: Extension of a currently approved collection.

Agency: Employment Standards Administration (ESA).

Title: Medical Travel Refund Request.

OMB Number: 1215-0054.

Affected Public: Business or other for-profit; and Not-for-profit institutions.

Frequency: On Occasion.

Number of Respondents: 6,000.

Number of Annual Responses: 6,000.

Estimated Time Per Response: 10 minutes.

Total Burden Hours: 1,000.

Total Annualized Capital/Startup Costs: $0.

Total Annual Costs (operating/maintaining systems or purchasing services): $0.

Description: After a miner files an application for black lung benefits, the miner is scheduled for medical determination testing. The Black Lung Trust Fund is required to pay for this determination testing and for the travel costs associated with receiving this testing. The Federal Mine Safety and Health Act of 1977, as amended, 30 U.S.C. 901 Section 20 CFR 725.701 and 725.406 necessitate the collection of this information by requiring that DOL provide such travel reimbursement. Pub. L. 106-113 authorizes provision of the miner's Social Security Number. If the claim is approved, the miner is entitled to medical benefits directly related to the treatment of the miner's black lung disease, which include reimbursement of reasonable travel costs for that treatment. The CM-957 form is specifically designed to record all such costs and to serve as the miner beneficiary's formal request for reimbursement.

Ira L. Mills,
Departmental Clearance Officer.

[FR Doc. 01-13904 Filed 6-1-01; 8:45 am]

BILLING CODE 4510-27-M